ENVIRONMENTAL PROTECTION AGENCY

[Petition IV-2020-5; FRL-10021-14-Region 4]

Clean Air Act Operating Permit Program; Petition for Objection to State Operating Permit for Hazlehurst Wood Pellets, LLC (Jeff Davis County, Georgia)

AGENCY: Environmental Protection Agency (EPA).

ACTION: Notice of final order on petition to object to state operating permit.

SUMMARY: The Environmental Protection Agency's (EPA) Administrator signed an Order, dated December 31, 2020, denying the petition submitted by the Environmental Integrity Project on behalf of itself and the Georgia Chapter of Sierra Club, Dogwood Alliance, the Rachel Carson Council, Partnership for Policy Integrity, Natural Resources Defense Council, and Our Children's Earth Foundation (Petitioners). The Order responds to the Petitioners' April 14, 2020, petition requesting that the EPA object to the proposed Clean Air Act (CAA) title V operating permit number 2499-161-0023-V-02-4 issued by the Georgia Environmental Protection Division (EPD) to Hazlehurst Wood Pellets, LLC for its facility located in Jeff Davis County, Georgia. The Order constitutes a final action on the petition addressed therein.

ADDRESSES: Copies of the Order, the petition, and all pertinent information relating thereto are on file at the following location: EPA Region 4; Air and Radiation Division; 61 Forsyth Street SW; Atlanta, Georgia 30303-8960. The Order is also available electronically at the following address: https://www.epa.gov/sites/production/files/2021-01/documents/hazlehurstorder2020.pdf. EPA requests that if at all possible, you contact the person listed in the FOR FURTHER INFORMATION CONTACT section to schedule your inspection at the Regional Office. The Regional Office's official hours of business are Monday through Friday 8:30 a.m. to 4:30 p.m., excluding Federal holidays.

FOR FURTHER INFORMATION CONTACT: Art Hofmeister, Air Permits Section, Air Planning and Implementation Branch, Air and Radiation Divisions, U.S. Environmental Protection Agency, Region 4, 61 Forsyth Street SW, Atlanta, Georgia, 30303-8960. The telephone number is (404) 562-9115. Mr. Hofmeister can also be reached via electronic mail at hofmeister.art@epa.gov.

SUPPLEMENTARY INFORMATION: The CAA affords EPA a 45-day period to review and, as appropriate, the authority to object to operating permits proposed by state permitting authorities under title V of the CAA, 42 U.S.C. 7661-7661f. Section 505(b)(2) of the CAA and 40 CFR 70.8(d) authorize any person to petition the EPA Administrator to object to a title V operating permit within 60 days after the expiration of EPA's 45-day review period if EPA has not objected on its own initiative. Petitions must be based only on objections to the permit that were raised with reasonable specificity during the public comment period provided by the state, unless the petitioner demonstrates that it was impracticable to raise these issues during the comment period or the grounds for the issues arose after this period.

Petitioners submitted a petition requesting that EPA object to the proposed CAA title V operating permit no. 2499-161-0023-V-02-4 issued by EPD to the Hazlehurst facility. Petitioners claim that this permitting action fails to include all applicable requirements, specifically the requirements related to section 112(r)(1) of the CAA (“general duty clause”).

On December 31, 2020, the Administrator issued an Order denying the petition. The Order explains the EPA's basis for denying the petition.

Judicial Review: Section 307(b)(1) of the CAA indicates which Federal Courts of Appeal are the proper forum for petitions for review of final actions by EPA. This section provides, in part, that petitions for review must be filed in the Court of Appeals for the District of Columbia Circuit: (i) When the agency action consists of “nationally applicable regulations promulgated, or final action taken, by the Administrator,” or (ii) when such action is locally or regionally applicable, if “such action is based on a determination of nationwide scope or effect and if in taking such action the Administrator finds and publishes that such action is based on such a determination.” For locally or regionally applicable actions, the CAA reserves to EPA complete discretion whether to invoke the exception in (ii).

As explained in the Order, this Order is locally applicable because it denies the single claim raised by the Petition and applies, on its face, to a single source in a single state. Sierra Club v. EPA, 926 F.3d 844, 849 (D.C. Cir. 2019). However, the Administrator exercised the complete discretion afforded to him under the CAA to make a finding in the Order that this action is based on a determination of nationwide scope or effect, and to publish this finding by publishing this notice regarding the Order in the Federal Register.

Thus, pursuant to sections 307(b) and 505(b)(2) of the CAA, any petitions for judicial review of this Order must be filed in the United States Court of Appeals for the District of Columbia Circuit within 60 days from the date this notice is published in the Federal Register.

Dated: March 4, 2021.
John Blevins,
Acting Regional Administrator, Region 4.

[FR Doc. 2021-04966 Filed 3-9-21; 8:45 am]

BILLING CODE 6560-50-P